NATIONAL CREDIT UNION ADMINISTRATION

Notice of Meeting; Sunshine Act

Time and Date: 2 p.m., Thursday, March 27, 2003.

Place: Board Room, 7th Floor, Room 7047, 1775 Duke Street, Alexandria, VA 22314-3428.

Status: Open.

Matters to be Considered: 1. Requests from Three (3) Federal Credit Unions to Convert to Community Charters.

2. Proposed Rule: Parts 702, 704, 712, and 723 of NCUA's Rules and Regulations, Member Business Loans.

3. Final Rule: Interpretive Ruling and Policy Statement (IRPS) 03-1, Section 701.1 of NCUA's Rules and Regulations, Amendments to NCUA's Chartering and Field of Membership Policies.

Recess: 3:15 p.m.

Time and Date: 3:30 p.m., Thursday, March 27, 2003.

Place: Board Room, 7th Floor, Room 7047, 1775 Duke Street, Alexandria, VA 22314-3428.

Status: Closed.

Matters to be Considered: 1. Revision to Delegations of Authority. Closed pursuant to Exemptions (2) and (6).

2. One (1) Insurance Appeal. Closed pursuant to Exemption (6).

FOR FURTHER INFORMATION CONTACT: Becky Baker, Secretary of the Board, Telephone: 703-518-6304

Becky Baker,
Secretary of the Board.

[FR Doc. 03-7118 Filed 3-20-03; 4:11 pm]

BILLING CODE 7535-01-M